DEPARTMENT OF VETERANS AFFAIRS

Advisory Committee on Prosthetics and Special Disabilities Programs; Notice of Meeting

The Department of Veterans Affairs (VA) gives notice under Pub. L. 92-463 (Federal Advisory Committee Act) that a meeting of the Advisory Committee on Prosthetics and Special Disabilities Programs will be held May 17-18, 2005, in Room 830, VA Headquarters, 810 Vermont Avenue, NW., Washington, DC 20420. Meeting sessions will convene at 8:30 a.m. on both days and will adjourn at 4:30 p.m. on May 17, and at 2 p.m. on May 18. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or vision impairment, loss of or the use of extremities, deafness or hearing impairment, or other serious incapacities in terms of daily life functions.

On the morning of May 17, the Committee will review and discuss the Blind Rehabilitation Services and Seamless Transition and the Fiscal Year 2003 Capacity Report. In the afternoon, the Committee will have briefings by the Chief Consultants, Rehabilitation Strategic Healthcare Group, Prosthetics and Sensory Aids, and Spinal Cord Injury. On the morning of May 18, the Committee will be briefed by the Vocational Rehabilitation and Employment Service and the General Counsel's staff (on federal ethics standards).

No time will be allocated for receiving oral presentations from the public. However, members of the public may direct questions or submit written statements for review by the Committee in advance of the meeting to Ms. Cynthia Wade, Designated Federal Officer, Veterans Health Administration, Patient Care Services, Rehabilitation Strategic Healthcare Group (117), Department of Veterans Affairs, 810 Vermont Avenue, NW., Washington, DC 20420. Any member of the public wishing to attend the meeting should contact Ms. Wade at (202) 273-8485.

Dated: April 19, 2005.
By Direction of the Secretary.
E. Philip Riggin,
Committee Management Officer.

[FR Doc. 05-8462 Filed 4-27-05; 8:45 am]

BILLING CODE 8320-01-M